DEPARTMENT OF HEALTH AND HUMAN SERVICES

Centers for Disease Control and Prevention (CDC)

Citizens Advisory Committee on Public Health Services Activities and Research at Department of Energy Sites: Notice of Charter Renewal

This gives notice under the Federal Advisory Committee Act (Pub. L. 92-463) of October 6, 1972, that the Citizens Advisory Committee on Public Health Services Activities and Research at Department of Energy Sites of the Department of Health and Human Services, has been renewed for a 2-year period extending through July 7, 2006.

FOR FURTHER INFORMATION CONTACT: Joseph E. Salter, Committee Management Officer, CDC, 1600 Clifton Road, NE., m/s E-72, Atlanta, Georgia 30333. Telephone (404) 498-0090, or fax (404) 498-0011.

The Director, Management Analysis and Services Office, has been delegated the authority to sign Federal Register notices pertaining to announcements of meetings and other committee management activities, for both CDC and the Agency for Toxic Substances and Disease Registry.

Dated: July 14, 2004.
William J. Atkinson,
Acting Director, Management Analysis and Services Office, Centers for Disease Control and Prevention.

[FR Doc. 04-16413 Filed 7-19-04; 8:45 am]

BILLING CODE 4163-18-P